FEDERAL EMERGENCY MANAGEMENT AGENCY

Agency Information Collection Activities: Proposed Collection; Comment Request

ACTION: Notice and request for comments.

SUMMARY: The Federal Emergency Management Agency, as part of its continuing effort to reduce paperwork and respondent burden, invites the general public and other Federal agencies to take this opportunity to comment on proposed information collections. In accordance with the Paperwork Reduction Act of 1995 (44 U.S.C. 3506(c)(2)(A)), this notice seeks comments concerning proposed collection of information Survey of Contractor Responsibility.

SUPPLEMENTARY INFORMATION: This information collection is required by the Federal Acquisition Regulation Part 9, Contractor Qualifications to make a determination of contractors responsibility prior to the awarding of Government Contracts. The Contacting officer must make a determination that the contractor has a satisfactory record of integrity, business ethics and financial resources to complete the job.

Collection of Information

Title: Survey of Contractor Responsibility.

Type of Information Collection: Reinstatement of a previously approved collection.

OMB Number: 3067-0181.

Form Numbers: 40-25.

Abstract: FEMA Form 40-25, Survey of Contractor Responsibilities is part of an evaluation process of proposals or offers received by FEMA's Disaster Contracting Officer. Data is used by the Acquisition Management Staff to determine responsibility, adequate financial resources, performance record and a satisfactory record of integrity and business ethics. In the event of contractual problems the information on the form may be turned over to the General Accounting Office, FEMA's Office of Inspector General and the legal office of the Department of justice.

Affected Public: Individuals and households, small business organizations

Number of Respondents: 150.

Frequency of Response: On occasion.

Hours per Response: 2 hours.

Estimated Total Annual Burden Hours: 250

Estimated Cost. $11,250.

COMMENTS: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESS: Interested persons should submit written comments to Muriel B. Anderson, FEMA Information Collections Officer, Federal Emergency Management Agency, 500 C Street, SW, Room 316, Washington, DC 20472. Telephone number (202) 646-2625, FAX number (202) 646-3524, e-mail addressmuriel.anderson@fema.gov.

FOR FURTHER INFORMATION CONTACT: Contact H. Robert Weiss, Acting Director, Grants and Acquisition Support Division, Office of Financial Management (202) 646-3748 for additional information. Contact Ms. Anderson at (202) 646-2625 for copies of the proposed collection.

Mike Bozzelli,
Acting Director, Program Services Division, Operations Support Directorate.

[FR Doc. 00-6986 Filed 3-20-00; 8:45 am]

BILLING CODE 6718-01-P